DEPARTMENT OF TRANSPORTATION

Federal Aviation Administration

14 CFR Part 39

[Docket No. FAA-2025-0910; Project Identifier MCAI-2023-01167-R; Amendment 39-23184; AD 2025-23-01]

RIN 2120-AA64

Airworthiness Directives; Airbus Helicopters

AGENCY: Federal Aviation Administration (FAA), DOT.

ACTION: Final rule.

SUMMARY: The FAA is superseding Airworthiness Directive (AD) 2020-06-13, which applied to certain Airbus Helicopters Model AS332C, AS332C1, AS332L, and AS332L1 helicopters. AD 2020-06-13 required determining the accumulated hours time-in-service (TIS) of certain part-numbered main gearbox (MGB) suspension bar rear attachment fittings (fittings) and bolts and established reduced life limits. Since the FAA issued AD 2020-06-13, it was determined that modifying the MGB suspension bar fittings link and installing improved MGB suspension bar fitting bolts was necessary. This AD requires modifying the MGB suspension bar link, installing newly-designed bolts, and prohibits installing certain parts. The FAA is issuing this AD to address the unsafe condition on these products.

DATES: This AD is effective January 12, 2026.

The Director of the Federal Register approved the incorporation by reference of a certain publication listed in this AD as of January 12, 2026.

ADDRESSES:

AD Docket: You may examine the AD docket at regulations.gov under Docket No. FAA-2025-0910; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0910.

FOR FURTHER INFORMATION CONTACT: Camille Seay, Aviation Safety Engineer, FAA, 1600 Stewart Avenue, Suite 410, Westbury, NY 11590; phone: (817) 222-5149; email: camille.l.seay@faa.gov.

SUPPLEMENTARY INFORMATION:

Background

The FAA issued a notice of proposed rulemaking (NPRM) to amend 14 CFR part 39 to supersede AD 2020-06-13, Amendment 39-19882 (85 FR 19080, April 6, 2020) (AD 2020-06-13). AD 2020-06-13 applied to Airbus Helicopters Model AS332C, AS332C1, AS332L, and AS332L1 helicopters with an MGB suspension bar right-hand (RH) side rear fitting part number (P/N) 330A22-2702-07 and bolt P/N 330A22-0135-20, MGB suspension bar left-hand (LH) side rear fitting P/N 330A22-2702-06 and bolt P/N 330A22-0135-20, or MGB suspension bar front bolt P/N 330A22-0134-20 installed.

The NPRM was published in the Federal Register on May 23, 2025 (90 FR 22028). The NPRM was prompted by EASA AD 2023-0194R1, dated March 19, 2025 (EASA AD 2023-0194R1) (also referred to as the MCAI), issued by EASA, which is the Technical Agent for the Member States of the European Union. The MCAI revised EASA AD 2023-0194, dated November 8, 2023 (EASA AD 2023-0194) (no equivalent FAA AD), which stated that, following the loss of tightening torque of the attachment screws of the upper deck fittings of the three MGB suspension bars and previous interim action, Airbus Helicopters developed modification (mod) 0728496 (for helicopters with machined frames) and mod 0729200 (for helicopters with sheet metal frames), which improve the link of the fittings of the MGB suspension bars and include improved fitting screws. EASA AD 2023-0194 was then superseded by the MCAI when a new risk analysis determined the calendar time compliance time for the modification could be extended.

In the NPRM, the FAA proposed retaining none of the requirements of AD 2020-06-13. Instead, in the NPRM the FAA proposed to require modifying the MGB suspension bar link and installing newly-designed bolts, and proposed to prohibit installing certain parts as specified in EASA AD 2023-0194R1.

This condition, if not addressed, could lead to structural failure of an MGB attachment assembly, detachment of an MGB suspension bar, and consequent loss of control of the helicopter.

You may examine the MCAI in the AD docket at regulations.gov under Docket No. FAA-2025-0910.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2023-0194R1, which specifies procedures for determining the accumulated service life of the RH side and LH side rear fittings of the MGB suspension bars and repetitively replacing the RH side and LH side rear fittings and screws before exceeding accumulated service life limits. As an alternative to the first replacement of the RH side rear fittings and screws, if certain conditions are met, EASA AD 2023-0194R1 allows measuring the tightening torque, and depending on the measurement results, replacing affected parts with serviceable parts within extended compliance times. EASA AD 2023-0194R1 also specifies procedures for replacing each MGB front fitting screw at the next major inspection (G) and modifying the helicopter to improve the link of the fittings of the MGB suspension bar, which includes installing MGB fitting screws with an improved design. EASA AD 2023-0194R1 prohibits installing certain parts on any helicopter. Finally, EASA AD 2023-0194R1 specifies procedures for a terminating action if the helicopter has been modified as defined in EASA AD 2023-0194R1 and provides credit for certain previously accomplished requirements.

This material is reasonably available because the interested parties have access to it through their normal course of business or by the means identified in the ADDRESSES section.

Differences Between This AD and the MCAI

Where the MCAI allows an option of an inspection of the torque instead of replacement of the first MGB RH side rear fitting, which includes different replacement compliance times based on the torque inspection results, this AD does not.

Costs of Compliance

The FAA estimates that this AD affects eight helicopters of U.S. registry. Labor rates are estimated at $85 per hour. Based on these numbers, the FAA estimates the following costs to comply with this AD.

Determining the total hours TIS of the rear MGB fittings will take 0.5 work-hour for an estimated cost of $43 per helicopter and $344 for the U.S. fleet.

Replacing a RH rear MGB fitting and its set of four bolts will take 8 work-hours, and parts cost $3,589 for an estimated cost of $4,269 per helicopter and $34,152 for the U.S. fleet, per replacement cycle.

Replacing a set of four LH rear MGB fitting bolts will take 4 work-hours, and parts will cost $100 for an estimated cost of $440 per helicopter and $3,520 for the U.S. fleet, per replacement cycle.

Replacing a LH rear MGB fitting will take 8 work-hours, and parts will cost $3,807 for an estimated cost of $4,487 per helicopter and $35,896 for the U.S. fleet, per replacement cycle.

Replacing a set of front MGB fitting bolts (4 bolts per set) will take about 8 work-hours, and parts will cost $98 for an estimated cost of $778 per helicopter and $6,224 for the U.S. fleet, per replacement cycle.

Modifying the MGB suspension bar (LH side and RH side) will take 56 work-hours, and parts will cost $115,509 for an estimated cost of $120,269 per helicopter.

The extent of corrective action that may be needed if there is damage, a crack, or insufficient clearance found while modifying the MGB suspension bar could vary significantly from helicopter to helicopter. The FAA has no way of determining the cost to correct or repair each helicopter or the number of helicopters that may require repair.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-06-13, Amendment 39-19882 (85 FR 19080, April 6, 2020); and

b. Adding the following new airworthiness directive:

2025-23-01 Airbus Helicopters: Amendment 39-23184; Docket No. FAA-2025-0910; Project Identifier MCAI-2023-01167-R.

(a) Effective Date

This airworthiness directive (AD) is effective January 12, 2026.

(b) Affected ADs

This AD replaces AD 2020-06-13, Amendment 39-19882 (85 FR 19080, April 6, 2020).

(c) Applicability

This AD applies to Airbus Helicopters Model AS332C, AS332C1, AS332L, and AS332L1 helicopters, certificated in any category.

(d) Subject

Joint Aircraft System Component (JASC) Code 6330, Main Rotor Transmission Mount.

(e) Unsafe Condition

This AD was prompted by tests and analyses performed by the manufacturer. The FAA is issuing this AD to prevent fatigue failure of the main gearbox (MGB) suspension bar attachment fittings and bolts by remaining in service beyond their fatigue life. The unsafe condition, if not addressed, could result in failure of an MGB attachment assembly, detachment of an MGB suspension bar, and consequent loss of control of the helicopter.

(f) Compliance

Comply with this AD within the compliance times specified, unless already done.

(g) Requirements

Except as specified in paragraphs (h) and (i) of this AD: Comply with all required actions and compliance times specified in, and in accordance with, European Union Aviation Safety Agency (EASA) AD 2023-0194R1, dated March 19, 2025 (EASA AD 2023-0194R1).

Note 1 to paragraph (g): EASA AD 2023-0194R1 and Airbus Helicopters material that is referenced in EASA AD 2023-0194R1 refer to MGB suspension bar attachment “bolts” as “screws.”

Note 2 to paragraph (g): Table No. 1 of Airbus Helicopters Alert Service Bulletin No. AS332-53.02.13, Revision 1, dated April 5, 2024, identifies the helicopter group configurations referenced in EASA AD 2023-0194R1.

(h) Exceptions to EASA AD 2023-0194R1

(1) Where EASA AD 2023-0194R1 requires compliance in terms of flight hours, this AD requires using hours time-in-service.

(2) Where EASA AD 2023-0194R1 refers to its effective date, December 17, 2018 (the effective date of EASA AD 2018-0260, dated December 3, 2018), or November 22, 2023 (the effective date of EASA AD 2023-0194, dated November 8, 2023), this AD requires using the effective date of this AD.

(3) Where the material referenced in EASA AD 2023-0194R1 specifies discarding parts, this AD requires removing those parts from service.

(4) This AD does not adopt paragraphs (3) through (5) of EASA AD 2023-0194R1.

(5) Where paragraphs (2) and (6) of EASA AD 2023-0194R1 state “paragraph 3.B.3,” this AD requires replacing that text with “paragraphs 3.B.2. and 3.B.3”.

(6) Where the modification Alert Service Bulletin (ASB), as defined and referenced in EASA AD 2023-0194R1, specifies contacting Airbus Helicopters Technical Support if there is visible damage, a crack, or insufficient clearance after replacing hardware, this AD requires, before further flight, accomplishing further action in accordance with a method approved by the Manager, International Validation Branch, FAA; EASA; or Airbus Helicopters' EASA Design Organization Approval (DOA). If approved by the DOA, the approval must include the DOA-authorized signature.

(7) Where the modification ASB, as defined and referenced in EASA AD 2023-0194R1, specifies to keep parts after removing, for this AD, keeping those parts is not required.

(8) Where the modification ASB, as defined and referenced in EASA AD 2023-0194R1, specifies repairing X3855 frame drilling kit (also identified as a Guide having part number X530P8102101 and referred to as Item “zz”), this AD prohibits using X3855 frame drilling kit for the actions required by this AD if there is any damage that consists of cracks, corrosion, lengthening or deformation of the rods or arms, or excessive wear.

(9) Sections 11 through 14 in Appendix 4.A. of the modification ASB, as defined and referenced in EASA AD 2023-0194R1, are not required by this AD.

(10) This AD does not adopt the “Remarks” section of EASA AD 2023-0194R1.

(i) No Reporting Requirement

Although the material referenced in EASA AD 2023-0194R1 specifies to submit information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (k)(1) of this AD and email to: AMOC@faa.gov.

(2) Before using any approved AMOC, notify your appropriate principal inspector, or lacking a principal inspector, the manager of the responsible Flight Standards Office.

(k) Additional Information

(1) For more information about this AD, contact Camille Seay, Aviation Safety Engineer, FAA, 1600 Stewart Avenue, Suite 410, Westbury, NY 11590; phone: (817) 222-5149; email: camille.l.seay@faa.gov.

(2) For material identified in this AD that is not incorporated by reference, contact Airbus Helicopters, 2701 North Forum Drive, Grand Prairie, TX 75052; phone: (972) 641-0000 or (800) 232-0323; fax: (972) 641-3775; website: airbus.com/en/products-services/helicopters/hcare-services/airbusworld.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0194R1, dated March 19, 2025.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on December 3, 2025.
Steven W. Thompson,
Acting Deputy Director, Compliance & Airworthiness Division, Aircraft Certification Service.

[FR Doc. 2025-22238 Filed 12-5-25; 8:45 am]

BILLING CODE 4910-13-P